DEPARTMENT OF VETERANS AFFAIRS

[OMB Control No. 2900-0342]

Agency Information Collection Under OMB Review: Application and Training Agreement for Apprenticeship and On-the-Job Training Programs

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before May 12, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0342” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0342.”

SUPPLEMENTARY INFORMATION:

Authority: 44 U.S.C. 3501-3521.

Title: Application and Training Agreement for Apprenticeship and On-the-Job Training Programs, VA Form 22-8864; 22-8865.

OMB Control Number: 2900-0342.

Type of Review: Extension of a currently approved collection.

Abstract: VA Forms 22-8864 and 22-8865 are used to collect information from employers and trainees to ensure that training programs (Apprenticeship and On-the-Job Training) and agreements meet the statutory requirements for approval.

An agency may not conduct or sponsor, and a person is not required to respond to a collection of information unless it displays a currently valid OMB control number. The Federal Register Notice with a 60-day comment period soliciting comments on this collection of information was published Vol. 82, FR 16, Thursday, January 26, 2017, pages 8567-8568.

Affected Public: Individuals or household or small businesses/other small entities.

Estimated Annual Burden: 19,535 hours.

Estimated Average Burden per Respondent: 75 minutes.

Frequency of Response: Once.

Estimated Number of Respondents: 15,628.

By direction of the Secretary.
Cynthia Harvey-Pryor,
Department Clearance Officer, Enterprise Records Service, Office of Quality and Compliance, Department of Veterans Affairs.

[FR Doc. 2017-07395 Filed 4-11-17; 8:45 am]

BILLING CODE 8320-01-P